ENVIRONMENTAL PROTECTION AGENCY

[FRL-9791-3]

Twenty-Fifth Update of the Federal Agency Hazardous Waste Compliance Docket

AGENCY: Environmental Protection Agency (EPA).

ACTION: Notice; republication.

SUMMARY: This Notice replaces the Notice published on November 6, 2012 in the Federal Register because that previous Notice inadvertently omitted the last page of Additions in the Tables section.

Since 1988, the Environmental Protection Agency (EPA) has maintained a Federal Agency Hazardous Waste Compliance Docket (“Docket”) under Section 120(c) of the Comprehensive Environmental Response, Compensation, and Liability Act (CERCLA). Section 120(c) requires EPA to establish a Docket that contains certain information reported to EPA by Federal facilities that manage hazardous waste or from which a reportable quantity of hazardous substances has been released. As explained further below, the Docket is used to identify Federal facilities that should be evaluated to determine if they pose a threat to public health or welfare and the environment and to provide a mechanism to make this information available to the public.

Today's notice identifies the Federal facilities not previously listed on the Docket and reported to EPA since the last update of the Docket on October 13, 2010. In addition to the list of additions to the Docket, this notice includes a section with revisions of the previous Docket list. Thus, the revisions in this update include 66 additions and 17 deletions, as well as 19 corrections to the Docket since the previous update. At the time of publication of this notice, the new total number of Federal facilities listed on the Docket is 2348.

DATES: This list is current as of September 12, 2012.

FOR FURTHER INFORMATION CONTACT: Electronic versions of the Docket and more information on its implementation can be obtained at http://www.epa.gov/fedfac/documents/docket.htm by clicking on the link for Update #25 to the Federal Agency Hazardous Waste Compliance Docket or by contacting Tim Mott, Federal Agency Hazardous Waste Compliance Docket Coordinator, Federal Facilities Restoration and Reuse Office (Mail Code 5106P), U.S. Environmental Protection Agency, 1200 Pennsylvania Avenue NW., Washington, DC 20460.

SUPPLEMENTARY INFORMATION:

Table of Contents

1.0 Introduction

2.0 Regional Docket Coordinators

3.0 Revisions of the Previous Docket

4.0 Process for Compiling the Updated Docket

5.0 Facilities Not Included

6.0 Facility NPL Status Reporting, Including NFRAP Status

7.0 Information Contained on Docket Listing

1.0 Introduction

Section 120(c) of CERCLA, 42 United States Code (U.S.C.) 9620(c), as amended by the Superfund Amendments and Reauthorization Act of 1986 (SARA), requires EPA to establish the Federal Agency Hazardous Waste Compliance Docket. The Docket contains information on Federal facilities that is submitted by Federal agencies to EPA under Sections 3005, 3010, and 3016 of the Resource Conservation and Recovery Act (RCRA), 42 U.S.C. §§ 6925, 6930, and 6937, and under Section 103 of CERCLA, 42 U.S.C. § 9603. Specifically, RCRA Section 3005 establishes a permitting system for certain hazardous waste treatment, storage, and disposal (TSD) facilities; RCRA Section 3010 requires waste generators, transporters and TSD facilities to notify EPA of their hazardous waste activities; and RCRA Section 3016 requires Federal agencies to submit biennially to EPA an inventory of their Federal hazardous waste facilities. CERCLA Section 103(a) requires the owner or operator of a vessel or onshore or offshore facility to notify the National Response Center (NRC) of any spill or other release of a hazardous substance that equals or exceeds a reportable quantity (RQ), as defined by CERCLA Section 101. Additionally, CERCLA Section 103(c) requires facilities that have “stored, treated, or disposed of” hazardous wastes and where there is “known, suspected, or likely releases” of hazardous substances to report their activities to EPA.

CERCLA Section 120(d) requires EPA to take steps to assure that a Preliminary Assessment (PA) be completed for those sites identified in the Docket and that the evaluation and listing of sites with a PA be completed within a reasonable time frame. The PA is designed to provide information for EPA to consider when evaluating the site for potential response action or inclusion on the National Priorities List (NPL).

The Docket serves three major purposes: (1) to identify all Federal facilities that must be evaluated to determine whether they pose a risk to human health and the environment sufficient to warrant inclusion on the National Priorities List (NPL); (2) to compile and maintain the information submitted to EPA on such facilities under the provisions listed in Section 120(c) of CERCLA; and (3) to provide a mechanism to make the information available to the public.

The initial list of Federal facilities to be included on the Docket was published in the Federal Register on February 12, 1988 (53 FR 4280). Since then, updates to the Docket have been published on November 16, 1988 (54 FR 46364); December 15, 1989 (54 FR 51472); August 22, 1990 (55 FR 34492); September 27, 1991 (56 FR 49328); December 12, 1991 (56 FR 64898); July 17, 1992 (57 FR 31758); February 5, 1993 (58 FR 7298); November 10, 1993 (58 FR 59790); April 11, 1995 (60 FR 18474); June 27, 1997 (62 FR 34779); November 23, 1998 (63 FR 64806); June 12, 2000 (65 FR 36994); December 29, 2000 (65 FR 83222); October 2, 2001 (66 FR 50185); July 1, 2002 (67 FR 44200); January 2, 2003 (68 FR 107); July 11, 2003 (68 FR 41353); December 15, 2003 (68 FR 240); July 19, 2004 (69 FR 42989); December 20, 2004 (69 FR 75951); October 25, 2005 (70 FR 61616); August 17, 2007 (72 FR 46218); November 25, 2008 (73 FR 71644), and October 13, 2010 (75 FR 62810). This notice constitutes the twenty-fifth update of the Docket.

Today's notice provides some background information on the Docket. Additional information on the Docket requirements and implementation are found in the Docket Reference Manual, Federal Agency Hazardous Waste Compliance Docket found at http://www.epa.gov/fedfac/documents/docket.htm or obtained by calling the Regional Docket Coordinators listed below. Today's notice also provides changes to the list of sites included on the Docket in three areas: (1) Additions, (2) Deletions, and (3) Corrections. Specifically, additions are newly identified Federal facilities that have been reported to EPA since the last update and now are included on the Docket; the deletions section lists Federal facilities that EPA is deleting from the Docket; and the corrections section lists changes in the information about the Federal facilities already listed on the Docket.¹ The information submitted to EPA on each Federal facility is maintained in the Docket repository located in the EPA Regional office of the Region in which the facility is located; for a description of the information required under those provisions, see 53 FR 4280 (February 12, 1988). Each repository contains the documents submitted to EPA under the reporting provisions and correspondence relevant to the reporting provisions for each facility.

¹ See Section 3.2 for the criteria for being deleted from the Docket.

In prior updates, information was also provided regarding No Further Remedial Action Planned (NFRAP) status changes. However, information on NFRAP and NPL status is no longer being provided separately in the Docket update as it is now available at: http://www.epa.gov/fedfac/documents/docket.htm or by contacting to the EPA HQ Docket Coordinator at the address provided in the FOR FURTHER INFORMATION CONTACT section of this notice.

2.0 Regional Docket Coordinators

Contact the following Docket Coordinators for information on Regional Docket repositories:

Martha Bosworth (HBS), US EPA Region 1, 5 Post Office Square, Suite 100, Mail Code: OSRR07-2, Boston MA 02109-3912, (617) 918-1407.

Helen Shannon (ERRD), US EPA Region 2, 290 Broadway, 18th Floor, New York, NY 10007-1866, (212) 637- 4260 or Alida Karas (ERRD), US EPA Region 2, 290 Broadway, New York, NY 10007-1866, (212) 637-4276.

Joseph Vitello (3HS12), US EPA Region 3, 1650 Arch Street, Philadelphia, PA 19107, (215) 814-3354.

Dawn Taylor (4SF-SRSEB), US EPA Region 4, 61 Forsyth St. SW., Atlanta, GA 30303, (404) 562-8575.

Michael Chrystof (SR-6J), US EPA Region 5, 77 W. Jackson Blvd., Chicago, IL 60604, (312) 353-3705.

Philip Ofosu (6SF-RA), US EPA Region 6, 1445 Ross Avenue, Dallas, TX 75202-2733, (214) 665-3178.

Todd H. Davis (ERNB), US EPA Region 7, 901 N. Fifth Street, Kansas City, KS 66101, (913) 551-7749.

Ryan Dunham (EPR-F), US EPA Region 8, 1595 Wynkoop Street, Denver, CO 80202, (303) 312-6627.

Debbie Schechter (SFD-6-1), US EPA Region 9, 75 Hawthorne Street, San Francisco, CA 94105, (415) 972-3093.

Monica Lindeman (ECL, ABU #1), US EPA Region 10, 1200 Sixth Avenue, Suite 900, ECL-112, Seattle, WA 98101, (206) 553-5113 or Ken Marcy (ECL, ABU #1), US EPA Region 10, 1200 Sixth Avenue, Suite 900, ECL-112, Seattle, WA 98101, (206) 463-1349.

3.0 Revisions of the Previous Docket

This section includes a discussion of the additions, deletions, and corrections to the list of Docket facilities since the previous Docket update.

3.1 Additions

Today, 66 Federal facilities are being added to the Docket, primarily because of new information obtained by EPA (for example, recent reporting of a facility pursuant to RCRA Sections 3005, 3010, or 3016 or CERCLA Section 103). CERCLA Section 120, as amended by the Defense Authorization Act of 1997, specifies that EPA take steps to assure that a Preliminary Assessment (PA) be completed within a reasonable time frame for those Federal facilities that are included on the Docket. Among other things, the PA is designed to provide information for EPA to consider when evaluating the site for potential response action or listing on the NPL.

3.2 Deletions

Today, 17 Federal facilities are being deleted from the Docket. There are no statutory or regulatory provisions that address deletion of a facility from the Docket. However, if a facility is incorrectly included on the Docket, it may be deleted from the Docket; this may be appropriate for a facility for which there was an incorrect report submitted for hazardous waste activity under RCRA (e.g., 40 CFR § 262.44); a facility that was not Federally-owned or operated at the time of the listing; facilities included more than once (i.e., redundant listings); or when multiple facilities are combined under one listing. Facilities being deleted no longer will be subject to the requirements of CERCLA Section 120(d).

3.3 Corrections

Changes necessary to correct the previous Docket are identified by both EPA and Federal agencies. The corrections section may include changes in addresses or spelling, and corrections of the recorded name and ownership of a Federal facility. In addition, changes in the names of Federal facilities may be made to establish consistency in the Docket or between CERCLIS and the Docket. For the Federal facility for which a correction is entered, the original entry (designated by an “o”), as it appeared in previous Docket updates, is shown directly below the corrected entry (designated by a “c”) for easy comparison. Today, information is being corrected for 19 facilities.

4.0 Process for Compiling the Updated Docket

In compiling the newly reported Federal facilities for the update being published today, EPA extracted the names, addresses, and identification numbers of facilities from four EPA databases—the Emergency Response Notification System (ERNS), the Biennial Inventory of Federal Agency Hazardous Waste Activities, the Resource Conservation and Recovery Information System (RCRAInfo), and CERCLIS—that contain information about Federal facilities submitted under the four provisions listed in CERCLA Section 120(c).

EPA assures the quality of the information on the Docket by conducting extensive evaluation of the current Docket list with the information obtained from the databases identified above to determine which Federal facilities were, in fact, newly reported and qualified for inclusion on the update. EPA is also striving to correct errors for Federal facilities that were previously reported. For example, state-owned or privately-owned facilities that are not operated by the Federal government may have been included. Such problems are sometimes caused by procedures historically used to report and track Federal facilities data. Representatives of Federal agencies are asked to write to the EPA HQ Docket Coordinator at the address provided in the FOR FURTHER INFORMATION CONTACT section of this notice if revisions of this update information are necessary.

5.0 Facilities Not Included

Certain categories of facilities may not be included on the Docket, such as: (1) Federal facilities formerly owned by a Federal agency that at the time of consideration was not Federally-owned or operated; (2) Federal facilities that are small quantity generators (SQGs) that have never generated more than 1,000 kg of hazardous waste in any month; (3) Federal facilities that are solely hazardous waste transportation facilities, as reported under RCRA Section 3010; and (4) Federal facilities that have mixed mine or mill site ownership. An EPA policy issued in June 2003 provided guidance for a site-by-site evaluation as to whether “mixed ownership” mine or mill sites, typically created as a result of activities conducted pursuant to the General Mining Law of 1872 and never reported under Section 103(a), should be included on the Docket. For purposes of that policy, mixed ownership mine or mill sites are those located partially on private land and partially on public land. This policy is found at http://www.epa.gov/fedfac/pdf/mixownrshpmine.pdf. The policy for not including these facilities may change; facilities now not included may be added at some point if EPA determines that they should be included.

6.0 Facility NPL Status Reporting, Including NFRAP Status

EPA typically tracks the NPL status of Federal facilities listed on the Docket. An updated list of the NPL status of all Docket facilities, as well as their NFRAP status, is available at http://www.epa.gov/fedfac/documents/docket.htm or by contacting to the EPA HQ Docket Coordinator at the address provided in the FOR FURTHER INFORMATION CONTACT section of this notice. In prior updates, information regarding NFRAP status changes was provided separately.

7.0 Information Contained on Docket Listing

The updated information is provided in three tables. The first table is a list of new Federal facilities that are being added to the Docket; the second table is a list of Federal facilities that are being deleted from the Docket and the third table contains corrections of information included on the Docket.

The facilities listed in each table are organized by state and then grouped alphabetically within each state by the Federal agency responsible for the facility. Under each state heading is listed the name and address of the facility, the Federal agency responsible for the facility, the statutory provision(s) under which the facility was reported to EPA, and a code.² The code key precedes the lists.

² Each Federal facility listed in the update has been assigned a code that indicates a specific reason for the addition or deletion. The code precedes this list.

The statutory provisions under which a facility is reported are listed in a column titled “Reporting Mechanism.” Applicable mechanisms are listed for each facility: for example, Sections 3005, 3010, 3016, 103(c), or Other. “Other” has been added as a reporting mechanism to indicate those Federal facilities that otherwise have been identified to have releases or threat of releases of hazardous substances. The National Contingency Plan 40 CFR § 300.405 addresses discovery or notification, outlines what constitutes discovery of a hazardous substance release, and states that a release may be discovered in several ways, including: (1) A report submitted in accordance with Section 103(a) of CERCLA, i.e., reportable quantities codified at 40 CFR part 302; (2) a report submitted to EPA in accordance with Section 103(c) of CERCLA; (3) investigation by government authorities conducted in accordance with Section 104(e) of CERCLA or other statutory authority; (4) notification of a release by a Federal or state permit holder when required by its permit; (5) inventory or survey efforts or random or incidental observation reported by government agencies or the public; (6) submission of a citizen petition to EPA or the appropriate Federal facility requesting a preliminary assessment, in accordance with Section 105(d) of CERCLA; (7) a report submitted in accordance with Section 311(b)(5) of the CWA; and (8) other sources. As a policy matter, EPA generally believes it is appropriate for Federal facilities identified through the CERCLA discovery and notification process to be included on the Docket.

The complete list of Federal facilities that now make up the Docket and the NPL and NFRAP status are available to interested parties and can be obtained at http://www.epa.gov/fedfac/documents/docket.htm by clicking on the link for Federal Agency Hazardous Waste Compliance Docket Update #25 or by contacting the EPA HQ Docket Coordinator at the address provided in the FOR FURTHER INFORMATION CONTACT section of this notice. As of today, the total number of Federal facilities that appear on the Docket is 2348.

Dated: March 5, 2013.
Reggie Cheatham,
Director, Federal Facilities Restoration and Reuse Office, Office of Solid Waste and Emergency Response.

Docket Codes

Categories for Deletion of Facilities

(1) Small-Quantity Generator.

(2) Never Federally Owned and/or Operated.

(3) Formerly Federally Owned and/or Operated but not at time of listing.

(4) No Hazardous Waste Generated.

(5) (This code is no longer used.)

(6) Redundant Listing/Site on Facility.

(7) Combining Sites Into One Facility/Entries Combined.

(8) Does Not Fit Facility Definition.

Categories for Addition of Facilities

(15) Small-Quantity Generator With Either a RCRA 3016 or CERCLA 103 Reporting Mechanism.

(16) One Entry Being Split Into Two (or more)/Federal Agency Responsibility Being Split.

(17) New Information Obtained Showing That Facility Should Be Included.

(18) Facility Was a Site on a Facility That Was Disbanded; Now a Separate Facility.

(19) Sites Were Combined Into One Facility.

(19A) New currently Federally owned and/or operated Facility site.

Categories for Corrections of Information About Facilities

(20) Reporting Provisions Change.

(20A) Typo Correction/Name Change/Address Change.

(21) Changing Responsible Federal Agency. (If applicable, new responsible Federal agency submits proof of previously performed PA, which is subject to approval by EPA.)

(22) Changing Responsible Federal Agency and Facility Name. (If applicable, new responsible Federal agency submits proof of previously performed PA, which is subject to approval by EPA.)

(24) Reporting Mechanism Determined To Be Not Applicable After Review of Regional Files.

Facility name | Address | City | State | Zip Code | Agency | Reporting mechanism | Code
FEDERAL AGENCY HAZARDOUS WASTE COMPLIANCE DOCKET UPDATE #25—ADDITIONS
USDOI BLM Red Top Mine | T10S R55W S29, Seward Meridian | Alegnagik | AK | 99555 | Interior | Other | 19A
Federal Correctional Complex Victorville | 1377 Air Expressway Blvd | Victorville | CA | 92394 | Justice | 3010 | 19A
Naval WPNS Station Seal Beach Det. Coron | 2300 5th St | Norco | CA | 92860 | Navy | 3010 | 19A
United States Mint | 155 Herman Street | San Francisco | CA | 94102 | Dept of State | 3010 | 19A
USCG Ballast Point Moorings | Navsubbase Ballast Point Drive | San Diego | CA | 92106 | Homeland Security | 3010 | 19A
U.S. Appraisers Building/GSA | 630 Sansome Street | San Francisco | CA | 94111 | General Services Administration | 3010 | 19A
US Geological Survey-Marine Facility (MARFAC) | 599 Seaport Blvd | Redwood City | CA | 94063 | USGS | 3010 | 19A
VACHS Veterans Admin Ct Healthcare System | 950 Campbell Ave Bldg 15 | West Haven | CT | 06516 | Veterans Affairs | 3010 | 19A
Smithsonian Inst—Natural History Bldg | 10th & Constitution Avenue NW | Washington | DC | 20560 |  | 3010 | 19A
GSA—St Elizabeth's West Campus | 2701 Martin Luther King Ave SE | Washington | DC | 20032 | GSA | 3010 | 19A
Miami VA Healthcare System | 1201 NW 16th St | Miami | FL | 33125 | Veterans Affairs | 3010 | 19A
DRMO Kalaeloa | Midway Street | Kapolei | HI | 96707 | Navy | 3010 | 19A
Transportation Security Administration | 300 Rogers Blvd | Honolulu | HI | 96819 | TSA | 3010 | 19A
182nd Airlift Wing Air Natl Guard | 6915 W Smithville Rd | Peoria | IL | 61607 | Air Force | 3010 | 19A
Port Allen Lock | 2101 Ernest Wilson Dr | Port Allen | LA | 70767 | Army | 3010 | 19A
Fort Howard Veterans Affairs Medical Center | 9600 Northpoint Rd | Fort Howard | MD | 21052 | Veterans Affairs | Other | 19A
James T Rowley Training Center | 9200 Powder Mill Rd | Laurel | MD | 20708 | Homeland Security | 3010 | 19A
Oxon Cove Landfill | Oxon Hill Road | Oxon Hill | MD | 20745 | Interior | 103c | 19A
Uniformed Services Univ/Health Sciences | 4301 Jones Bridge Rd | Bethesda | MD | 20814 | Navy | 3010 | 19A
Department Of Veterans Affairs | 1 V A Center | Augusta | ME | 04330 | Veterans Affairs | 3010 | 19A
Beaver Island High Level Site | South End Road | Peaine Township | MI | 49782 | Homeland Security | Other | 17
Cheboygan Housing Vacant Lot | 900 S. Western Avenue | Cheboygan | MI | 49721 | Homeland Security | Other | 19A
Cheboygan River Range Front Light | 606 Water Street | Cheboygan | MI | 49721 | Homeland Security | Other | 17
Detroit Atwater Property | 2660 E. Atwater Street | Detroit | MI | 48207 | Homeland Security | Other | 19A
Menagerie Island Light Station | Isle Royale National Park | (unincorporated) | MI | 49930 | Homeland Security | Other | 19A
Middle Island Light Station | Middle Island | Alpena Township | MI | 49707 | Homeland Security | Other | 17
Old Station Ludington | 101 S. Lakeshore Drive | Ludington | MI | 49431 | Homeland Security | Other | 17
Old Station Marquette | N. Lakeshore Blvd. & E. Ridge Street | Marquette | MI | 49855 | Homeland Security | Other | 19A
Old Station Portage | Coast Guard Road | Hancock Township | MI | 49930 | Homeland Security | Other | 19A
Old Station Pt. Huron/Ft Gratiot Light | Conger & Omar Streets | Port Huron | MI | 48060 | Homeland Security | Other | 17
Passage Island Light Station | Isle Royale National Park | (unincorporated) | MI | 49930 | Homeland Security | Other | 19A
Sturgeon Point Light | Sturgeon Point Scenic Road | Haynes Township | MI | 48740 | Homeland Security | Other | 17
Thunder Bay Island Light Station | Michigan Islands Nat'l Wildlife Refuge | Alpena Township | MI | 49707 | Homeland Security | Other | 19A
VA Gulf Coast Veterans Health Care System | 400 Veterans Avenue | Biloxi | MS | 39531 | Veterans Affairs | 3010 | 19A
Trans Security Administration (CLT) | 5501 Josh Birmingham Pkwy Ste | Charlotte | NC | 28208 | TSA | 3010 | 19A
US Postal Service—GMF | 5640 E Taft Rd | Syracuse | NY | 13220 | USPS | 3010 | 19A
Veterans Administration Medical Center N | 79 Middleville Road | Northport | NY | 11768 | Veterans Affairs | 3010 | 19A
United States Merchant Marine Academy | 300 Steamboat Road | Kings Point | NY | 11024 | DOT | 3010 | 19A
US VA Hudson Valley Health Care System | 2094 Albany Post Road | Montrose | NY | 10548 | Veterans Affairs | 3010 | 19A
Great Kills Landfill—Gateway National Recreation Area | 210 New York Avenue | Staten Island | NY | 10305-5019 | DOI | 103c | 19A
Youngstown Naval Reserve Center | 315 E Laclede Ave | Youngstown | OH | 44507 | Navy | 3010 | 19A
Mansfield Naval Reserve Center | 170 Ashland Rd | Mansfield | OH | 44902 | Navy | 3010 | 19A
Potter Stewart US Courthouse | 100 E 5th St | Cincinnati | OH | 45202 | DOJ | 3010 | 19A
Navy Remediation At Teledyne Turbine Eng | 1330 Laskey Rd | Toledo | OH | 43612 | Navy | 3010 | 19A
Old Station Ashtabula | 1 Front Street | Ashtabula | OH | 44004 | Homeland Security | Other | 19A
COE-Civil McNary Project | Columbia River Mile 292 | Umatilla | OR | 97882 | Corps of Engineers | 3010 | 19A
USVA Portland Medical Center | 3710 SW US Veterans Hospital, R | Portland | OR | 97239 | Veterans Affairs | 3010 | 19A
USVA Roseburg Healthcare System | 913 NW Garden Valley Blvd | Roseburg | OR | 97471 | Veterans Affairs | 3010 | 19A
Transportation Security Admin Phil Intl | 8500 Essington Ave | Philadelphia | PA | 19153 | TSA | 3010 | 19A
VA Medical Center | 1030 Jefferson Ave | Memphis | TN | 38104 | Veterans Affairs | 3010 | 19A
Veterans Administration Medical Center | 1310 24th Ave S | Nashville | TN | 37212 | Veterans Affairs | 3010 | 19A
Alvin C York VA Medical Center | 3400 Lebanon Rd | Murfreesboro | TN | 37130 | Veterans Affairs | 3010 | 19A
Supervisor Of Shipbuilding, USN | 505 Howmet Drive | Hampton | VA | 23661 | Navy | 3010 | 19A
FBI Academy | 15 Hogans Alley | Quantico | VA | 22135 | FBI | 3010, 103 | 19A
USAF ANG Walla Walla Military Dept | 113 S Colville St | Walla Walla | WA | 99362 | Air Force | 3010 | 19A
USDA FS Colville NF: Kelly Camp Mine | On 391 Spur of FSR # 2148, 11 mi N of Cy, T38N R32E Sec 9, SW ¼ | Republic | WA | 98166 | Agriculture | 3010 | 19A
USDA FS Mt Baker-Snoqualmie NF: Cashman Mill/Apex Mill Site | 201 NE Lowe Creek Rd | Baring | WA | 98224 | Agriculture | 3010 | 19A
USDA FS Mt Baker-Snoqualmie NF: Kromona Mine & Mill Site | On Middle Fork of South Fork | Sultan | WA | 98294 | Agriculture | Other | 19A
USDA FS Mt Baker-Snoqualmie NF: Sunset Mine & Mill Site | On Trout Creek, 5 mi NE of Cy | Index | WA | 98256 | Agriculture | Other | 19A
USDA FS Okanogan-Wenatchee NF: Beth Lake Prospect | Oroville-Toroda Creek Rd/County Rd 9480, 8 mi SE of Cy, T39N R30E Sec 23, SE¼ | Chesaw | WA | 98844 | Agriculture | Other | 19A
USDA FS Wenatchee NF: Copper City Mill | From Bumping Lake Campground S 8 mi on NFR 1800 & 1808, 2 mi S of Granite Lake Prospect, 30 mi W of Cy, T15N R12E Sec PB40 SE & Sec PB41 NE | Naches | WA | 98929 | Agriculture | Other | 19A
USDA FS Wenatchee NF: Granite Lake Prospect | From Bumping Lake Campground S 2.3 mi on NFR 1800, 4.2 mi SW on NFR 1809, 30 mi W of Cy, T15N R12E Sec 9 Ctr East | Naches | WA | 98929 | Agriculture | Other | 19A
USDHS CG Grays Harbor Lighthouse | Ocean Dr & Lighthouse Drive | Westport | WA | 98595 | Department of Homeland Security | 3010 | 19A
USDOE Office of Science PNNL Site | 3335 Q Avenue | Richland | WA | 99354 | Energy | 3010 | 19A
USNAVY Transient Family Accommodation Eastpark | 90 Magnuson Way | Bremerton | WA | 98310 | Navy | 3010 | 19A
USVA PSHCS Seattle Division | 1660 S Columbian Way | Seattle | WA | 98108 | Veterans Affairs | 3010 | 19A
FEDERAL AGENCY HAZARDOUS WASTE COMPLIANCE DOCKET UPDATE #25—DELETIONS
Atlas E Missile Site #11 | Six Miles North Of Nunn | Nunn | CO | 80648 | Air Force | 103c | 3
Former Lowry AFB Titan Missile Site 1 Complex 2A | 5 Miles South Of East Quincy Av And Brick Center Road | Aurora | CO | 80137 | Air Force | 103c | 6
AFSC—Buckley East 6th Ave Site | Buckley AFB | Aurora | CO | 80011 | Air Force | 103c | 7
Aurora-Buckley | 2 Miles SE | Aurora | CO | 80011 | Army | 3016 | 6
Buckley ANG Former Warehouse Area | 660 S Aspen Dr. Stop 26 | Aurora | CO | 80011 | Defense | 103c | 7
US EPA Region 3 Chemical Metals Site | 2001 & 2103 Annapolis Road | Baltimore | MD | 21230 | EPA | 3010 | 2
Woodstock | 2845 Hernwood Road | Woodstock | MD | 21163 | Army | 3016 | 6
Cavalier Air Station | Po Box 22 | Nekoma | ND | 28355 | Air Force | 3016 | 6
Altoona Postal Service Vehicle Maintenance Facility | 1201 11th Ave | Altoona | PA | 16603 | USPS | 3010 | 8
Warrendale Postal Center | 300 Commonwealth Ave | Warrendale | PA | 15086 | USPS | 3010 | 8
Pittsburgh Postal Service | 1136 Western Ave | Pittsburgh | PA | 15233 | USPS | 3010 | 8
PA ANG 171St Air Refueling Wing | 300 Tanker Road | Moon Township | PA | 15108 | Air Force | 3010 | 6
Greater Pittsburgh International Airport | 911 Tag/De | Pittsburgh | PA | 15231 | Air Force | 3016, 103C | 6
Fort Dix Tacony Warehouse | 5100 Princeton Ave | Philadelphia | PA | 19135 | Army | 3010 | 6
Richmond Organizational Maintenance Shop #4 | 3100 Alcott Rd | Richmond | VA | 23237 | Army | 3016 | 6
USDOI Bureau of Reclamation Site | 39307 W Kelly Rd | Benton City | WA | 99320 | DOI | 3010 | 2
Beckley Medical Center | 200 Veterans Ave | Beckley | WV | 25801 | Veterans Affairs | 3010 | 8
FEDERAL AGENCY HAZARDOUS WASTE COMPLIANCE DOCKET UPDATE #25—CORRECTIONS
c—Buckley Air Force Base | 18500 East 6th Ave | Aurora | CO | 80011 | Air Force | 3016 103c 3010 | 20A
o—AFSPC-Buckley Air National Guard Base | Buckley Road And East 6th Ave | Aurora | CO | 80011 | Air Force | 3016 103c 3010 | 20A
c—Air Force Plant PJKS | 12275 South Highway 75 | Littleton | CO | 80127 | Air Force | 3016 103c 3010 3005 | 20A
o—Plant PJKS Property | 12250 S Hwy. 75 | Waterton | CO | 80120 | Air Force | 3016 103c 3010 3005 | 20A
c—Rock Flats Site (USDOE) | Hwy 93 Between Golden and Boulder | Golden | CO | 80007 | Energy | 3005 3010 3016 103c 103a | 20A
o—Rocky Flats Environmental Technology Site | 1808 Highway 93, Unit A | Golden | CO | 80403 | Energy | 3005 3010 3016 103c 103a | 20A
c—BLM-Maybell Dump | 6 mi East of Maybell | Maybell | CO | 81640 | Interior—Bureau of Land Management | 103c | 20A
o—BLM-Maybell Dump |  | Maybell | CO |  | Interior—Bureau of Land Management | 103c | 20A
c—BLM-Montrose County Dump | 4 mi NE Montrose T48N R19W sec22 | Montrose | CO | 81401 | Interior—Bureau of Land Management | 103c | 20A
o—BLM-Montrose County Dump | T48Nr19Wsec22 | Montrose | CO |  | Interior—Bureau of Land Management | 103c | 20A
c—Elkhorn Mine And Mill | 610 N. Montana St | Dillon | MT | 59725 | Agriculture | Other | 20A
o—Beaverhead National Forest | 610 N. Montana St | Dillon | MT | 59725 | Agriculture | Other | 20A
c—Fort Detrick—Forest Glen Annex | 503 Orney Dr | Silver Spring | MD | 20910 | Army | None | 20A
o—Walter Reed Army Medical Center—Forest Glenn Annex | 503 Orney Dr | Silver Spring | MD | 20910 | Army | None | 20A
c—Granite-Control | 2845 Hernwood Road | Woodstock | MD | 21163 | Army | 103C, 3016 | 23
o—Granite-Control | 2845 Hernwood Road | Woodstock | MD | 21163 | Army | 103C | 20A
c—Cavalier Air Force Station | 830 Patrol Road 26 | Cavalier | ND | 58220 | Air Force | 103c, 3010 3005 | 20A
o—Concrete Missile Early Warning Station | Det 1 57 Ad/De | Concrete | ND | 58221 | Air Force | 103c, 3010 3006 | 20A
c—PA ANG 171ST Air Refueling Wing | 300 Tanker Road | Pittsburgh | PA | 15108 | Air Force | 3010 | 20A
o—Pittsburgh Air National Guard | Greater Pittsburgh Intnl Arpt | Pittsburgh | PA | 15231 | Air Force | 3010 | 20A
c—911th Airlift Wing | Pittsburgh Intl Arprt ARS 2475 Defense Ave Ste 101 | Coraopolis | PA | 15108 | Air Force | 3010 | 20A
o—911th Tactical Airlift Group | Greater Pittsburgh Intl Airprt | Pittsburgh | PA | 15231 | Air Force | 3010 | 20A
c—Fort Dix Tacony Warehouse | 7071 Milnor St | Philadelphia | PA | 19135 | Army | 3010, 103C | 20A
o—Fort Dix Tacony Warehouse | 7071 Wissonoming St | Philadelphia | PA | 19124 | Army | 3010, 103C | 20A
c—Marietta Depot | 1502 Depot Road | Marietta | PA | 17547 | Defense Logistics Agency | 103C | 20A, 22
o—The Former Marietta Air Force Station | Rt 441 | Marietta | PA |  | General Services Administration | 103C | 20A, 22
c—U.S. Forest Service Nemo Work Station Site | Nemo T: 3N, R: 5E, Sec: 27 | Nemo | SD | 57759 | Agriculture | 103c | 20A
o—U.S. Forest Service Nemo Work Station Site | Nemo | Nemo | SD | 57754 | Agriculture | 103c | 20A
c—Sioux Falls VA Medical Center | 2501 West 22nd Street | Sioux Falls | SD | 57105 | Veterans Affairs | 3010 | 20A
o—Sioux Falls VA Medical Center | 2501 West 22nd Street | Sioux Falls | SD | 57117 | Veterans Affairs | 3010 | 20A
c—American Fork Canyon/UINTA National | American Fork Canyon | Pleasant Grove | UT | 84602 | Interior | 103c | 20A
o—American Fork Canyon/UINTA National |  | Pleasant Grove | UT | 84602 | Interior | 103c | 20A
c—South Dakota Air National Guard | P.O. Box 5044 | Sioux Falls | SD | 57117 | Air Force | 103c, 3016 | 20A
o—Joe Foss Field | P.O. Box 5044 | Sioux Falls | SD | 57117 | Air Force | 103c, 3017 | 20A
c—USFS Santaquin Mudslide | 324 25th St | Santaquin | UT | 84655 | Agriculture | 103c, 3016 | 20A
o—USFS Santaquin Mudslide | 324 25th St | Santaquin | UT | 84401 | Agriculture | 103c, 3016 | 20A
c—Hill Air Force Base | 7274 Wardleigh Rd | Hill AFB | UT | 84056 | Air Force | 3005 3010 3016 103c 103a | 20A
o—Hill Air Force Base | 7274 Wardleigh Rd | Ogden | UT | 84056 | Air Force | 3006 3010 3016 103c 103a | 20A

[FR Doc. 2013-06103 Filed 3-15-13; 8:45 am]

BILLING CODE 6560-50-P